DEPARTMENT OF THE TREASURY

Bureau of Engraving and Printing

Proposed Collection; Comment Request

ACTION: Notice and request for comments.

SUMMARY: The Department of the Treasury's Bureau of Engraving and Printing, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Engraving and Printing within the Department of the Treasury is soliciting comments concerning survey research designed to establish benchmark measures of awareness, confidence and behavior relating to the Bureau's redesigned currency program. Written comments should be received on or before February 28, 2003 to be assured consideration. Direct all written comments to Pamela Grayson, Budget & Strategic Planning Office, Bureau of Engraving and Printing, Room 725-7A, 14th and C Streets, SW., Washington, DC 20228.

Requests for additional information or copies of the form (s) and instructions should also be directed to Pamela Grayson at the above address.

SUPPLEMENTARY INFORMATION:

Title: Redesigned Currency Benchmark Survey.

OMB Number: New.

Abstract: The Bureau of Engraving and Printing requests approval to survey the public to establish benchmarks related to its public education campaign regarding the introduction of redesigned currency. The survey will be used to establish baseline measures of awareness of currency changes, confidence in the currency and authentication behavior. Benchmark data will be compared against subsequent survey data to determine the effectiveness of the public education program.

Current Actions: This is a new collection.

Type of Review: Regular.

Affected Public: The affected public includes all adult (18 or older) members of the U.S. population.

Estimated Number of Respondents: 4,800.

Estimated Total Annual Burden Hours: Estimated number of annual burden hours is 1200.

Request for Comments: The Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

Dated: March 3, 2003.
Ellen Gano,
Public Affairs Specialist, Office of Public Education, Bureau of Engraving and Printing.

[FR Doc. 03-5768 Filed 3-10-03; 8:45 am]

BILLING CODE 4840-01-P